DEPARTMENT OF HEALTH AND HUMAN SERVICES

Centers for Disease Control and Prevention

[30Day-15-15BFV]

Agency Forms Undergoing Paperwork Reduction Act Review—A Study of Viral Persistence in Ebola Virus Disease (EVD) Survivors; Correction

AGENCY: Centers for Disease Control and Prevention (CDC), Department of Health and Human Services (HHS).

ACTION: Notice; Correction.

SUMMARY: The Centers for Disease Control and Prevention (CDC) published a document in the Federal Register of April 1, 2016, concerning request for comments on Agency Forms Undergoing Paperwork Reduction Act Review—A Study of Viral Persistence in Ebola Virus Disease (EVD) Survivors. The document contained an incorrect total estimate for public burden hours.

FOR FURTHER INFORMATION CONTACT: Leroy Richardson, 1600 Clifton Road, MS D-74, Atlanta, GA 30333; telephone (404) 639-4965; email: omb@cdc.gov.

Correction

In the Federal Register of April 1, 2016, in FR Doc. 2016-07424, on page 18854, in the third column (last paragraph), correct the “burden hours requested” to read:

The total burden hours requested for the research study in Sierra Leone is 1,836 hours.

Dated: April 4, 2016.
Leroy A. Richardson,
Chief, Information Collection Review Office, Office of Scientific Integrity, Office of the Associate Director for Science, Office of the Director, Centers for Disease Control and Prevention.

[FR Doc. 2016-07992 Filed 4-6-16; 8:45 am]

BILLING CODE 4163-18-P